OFFICE OF THE UNITED STATES TRADE REPRESENTATIVE

Generalized System of Preferences (GSP): Notice Regarding Extension of Deadline To Receive Comments on the Child Labor Review in the Production of Certain GSP-Eligible Hand-Loomed Carpets

AGENCY: Office of the United States Trade Representative.

ACTION: Notice.

SUMMARY: On January 18, 2008, a public notice was published in the Federal Register on pages 3495-3496 requesting public comments by February 15, 2008, on whether each beneficiary country exporting certain hand-loomed carpets is taking steps to eliminate the worst forms of child labor, including the use of bonded child labor, in the production of certain carpets imported under the U.S. GSP program. The GSP Subcommittee of the Trade Policy Staff Committee has decided to extend the deadline to March 14, 2008, for receipt of public comments for this review.

FOR FURTHER INFORMATION CONTACT: The GSP Subcommittee of the TPSC, Office of the United States Trade Representative (USTR), 1724 F Street, NW., Room F-220, Washington, DC 20508. The telephone number is (202) 395-6971.

SUPPLEMENTARY INFORMATION: The 2004 Miscellaneous Trade and Technical Corrections Act (HR 1047) (the “2004 Act”), as approved by Congress, authorized the President to designate seven tariff lines relating to carpets (5702.51.20 (now 5702.50.20), 5702.91.30, 5702.92.00 (now 5702.92.10), 5702.99.10 (now 5702.99.05), 5703.10.00 (now 5703.10.20), 5703.20.10, and 5703.30.00 (now 5703.30.20)) as eligible for duty-free treatment under the GSP program. These tariff lines cover certain hand-loomed carpets and other textile floor coverings made of wool, cotton, fine animal hair, or man-made textile materials. Pursuant to the authorization in the 2004 Act, the President designated these seven tariff lines as eligible for duty-free treatment under the GSP program. The GSP Subcommittee of the Trade Policy Staff Committee (TPSC) is conducting a triennial review of whether each beneficiary country is taking steps to eliminate the worst forms of child labor, including the use of bonded child labor, in the production of such carpets imported under the U.S. GSP program. If sufficient steps are not underway, the TPSC will recommend to the President changes in GSP coverage that would eliminate from duty-free treatment under the GSP program those carpets found to be made with the worst forms of child labor.

For further information, please refer to the USTR FR Doc. E8-905, page 3495-3496, Federal Register Notice, dated January 18, 2008, Vol. 73 FR 3485: Notice Regarding the Initiation of Child Labor Review in the Production of Certain GSP-Eligible Hand-Loomed or Hand-Hooked Carpets., No. 13/Friday, January 18, 2008.

Opportunities for Public Comment and Inspection of Comments: The GSP Subcommittee of the TPSC invites comments for this review. Submissions should comply with 15 CFR Part 2007, except as modified below. All submissions should identify the subject article(s) in terms of the country and the eight-digit Harmonized Tariff Schedule of the United States subheading number. The deadline for submission of comments is extended until March 14, 2008.

Requirements for Submissions: In order to facilitate prompt processing of submissions, USTR requires electronic e-mail submissions in response to this notice. Hand-delivered submissions will not be accepted. These submissions should be single-copy transmissions in English, and including attachments, with the total submission not to exceed 25 single-spaced standard letter-size pages in 12-point type and three megabytes as sent as a digital file attached to an e-mail transmission. E-mail submissions should use the following subject line: “Child Labor Review in the Production of Certain GSP-Eligible Hand-loomed or Hand-hooked Carpet Lines” followed by the country and the eight-digit HTSUS subheading number. Documents must be submitted in English in one of the following formats: WordPerfect (.WPD), Adobe (.PDF), MSWord (.DOC), or text (.TXT) files. Documents cannot be submitted as electronic image files or contain embedded images, e.g., “.JPG”, “.TIF”, “.BMP”, or “.GIF”. Supporting documentation submitted as spreadsheets are acceptable as Excel files, formatted for printing on 8½ x 11 inch paper. To the extent possible, any data attachments to the submission should be included in the same file as the submission itself, and not as separate files.

If the submission contains business confidential information, a non-confidential version of the submission must also be submitted that indicates where confidential information was redacted by inserting asterisks where material was deleted. In addition, the confidential submission must be clearly marked “BUSINESS CONFIDENTIAL” at the top and bottom of each page of the document. The non-confidential version must also be clearly marked at the top and bottom of each page (either “PUBLIC VERSION” or “NON-CONFIDENTIAL”). Documents that are submitted without any marking might not be accepted or will be considered public documents.

For any document containing business confidential information submitted as an electronic attached file to an e-mail transmission, the file name of the business confidential version should begin with the characters “BC-”, and the file name of the public version should begin with the characters “P-”. The “P-” or “BC-” should be followed by the name of the party (government, company, union, association, etc.) which is making the submission.

E-mail submissions should not include separate cover letters or messages in the message area of the e-mail; information that might appear in any cover letter should be included directly in the attached file containing the submission itself, including the sender's name, organization name, address, telephone number and e-mail address. The e-mail address for these submissions is FR0081@USTR.EOP.GOV. Note: The letters “FR” in the e-mail address are followed by the number, zero, not a letter. Documents not submitted in accordance with these instructions might not be considered in this review. If unable to provide submissions by e-mail, please contact the GSP Subcommittee to arrange for an alternative method of transmission.

Public versions of all documents relating to this review will be available for review approximately two weeks after the relevant due date by appointment in the USTR public reading room, 1724 F Street, NW., Washington, DC. Appointments may be made from 9:30 a.m. to noon and 1 p.m. to 4 p.m., Monday through Friday, by calling (202) 395-6186.

Marideth J. Sandler,
Executive Director, Generalized System of Preferences, Office of the U.S. Trade Representative.

[FR Doc. E8-3925 Filed 2-28-08; 8:45 am]

BILLING CODE 3190-W8-P